DEPARTMENT OF ENERGY

Federal Energy Regulatory Commission

[Docket Nos. ER98-4643-004, et al.]

Storm Lake Power Partners I, LLC, et al.; Electric Rate and Corporate Filings

February 3, 2006.

The following filings have been made with the Commission. The filings are listed in ascending order within each docket classification.

1. Storm Lake Power Partners I, LLC; DeGreeffpa, LLC; Bendwind, LLC; Sierra Wind, LLC; Groen Wind, LLC; Larswind, LLC; TAIR Windfarm, LLC; Hillcrest Wind, LLC

[Docket Nos. ER98-4643-004; ER06-215-001; ER06-220-001; ER06-221-001; ER06-222-001; ER06-223-001; ER06-224-001; ER06-225-001]

Take notice that on January 26, 2006, DeGreeffpa, LLC; Bendwind LLC; Sierra Wind, LLC; Groen Wind, LLC; Larswind, LLC; TAIR Windfarm, LLC; Hillcrest Wind, LLC and Storm Lake Power Partners I, LLC (collectively, Edison Entities), each of which is an indirect subsidiary of Edison International, tendered for filing in compliance with reporting requirements in Order No. 652, its indirect affiliation with the San Juan Mesa Wind Project, LLC and Storm Lake's recent indirect affiliation with the East Ridge Projects.

Comment Date: 5 p.m. eastern time on February 16, 2006.

2. California Independent System Operator Corporation; Pacific Gas and Electric Company

[Docket Nos. ER04-115-006; EL04-47-006; ER04-242-005; EL04-50-004]

Take notice that on January 27, 2006, the California Independent System Operator, pursuant to Commission's Order issued on February 2, 2005, is filing its refund report.

Comment Date: 5 p.m. eastern time on February 17, 2006.

3. American Electric Power Service Corporation

[Docket No. ER06-533-000]

Take notice that on January 24, 2006, American Electric Power Service Corporation, as agent for Kentucky Power Company (KPCo) tendered for filing an interconnection and local delivery service agreement between KPCo and the city of Olive Hill, Kentucky.

Comment Date: 5 p.m. eastern time on February 14, 2006.

New England Power Company

[Docket No. ER06-555-000]

Take notice that on January 27, 2006, New England Power Company (NEP) tendered for filing a Fourth Revised Service Agreement No. 6 between NEP and its affiliate, Granite State Electric Company.

Comment Date: 5 p.m. eastern time on February 17, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-1850 Filed 2-9-06; 8:45 am]

BILLING CODE 6717-01-P